DEPARTMENT OF JUSTICE

Antitrust Division

Notice Pursuant to the National Cooperative Research and Production Act of 1993—Southwest Research Institute: Clean Diesel IV

Notice is hereby given that, on March 31, 2005, pursuant to Section 6(a) of the national Cooperative Research and Production Act of 1993, 15 U.S.C. 4301 et seq. (“the Act”), Southwest Research Institute: Clean Diesel IV (“Clean Diesel IV”) has filed written notifications simultaneously with the Attorney General and the Federal Trade Commission disclosing changes in its membership. The notifications were filed for the purpose of extending the Act's provisions limiting the recovery of antitrust plaintiffs to actual damages under specified circumstances. Specifically, Federal Mogul Inc., Southfield, MI and Woodward Governor Company, Fort Collins, CO have been added as parties to this venture.

No other changes have been made in either the membership or planned activity of the group research project. Membership in this group research project remains open, and Clean Diesel IV intends to file additional written notification disclosing all changes in membership.

On April 6, 2004, Clean Diesel IV filed its original notification pursuant to Section 6(a) of the Act. The department of Justice published a notice in the Federal Register pursuant to Section 6(b) of the Act on May 10, 2004 (69 FR 25923).

The last notification was filed with the Department on November 16, 2004. A notice was published in the Federal Register pursuant to Section 6(b) of the Act on January 5, 2005 (70 FR 921).

Dorothy B. Fountain,
Deputy Director of Operations, Antitrust Division.

[FR Doc. 05-7748 Filed 4-18-05; 8:45 am]

BILLING CODE 4410-11-M